DEPARTMENT OF TRANSPORTATION

Federal Aviation Administration

14 CFR Part 97

[Docket No. 30294; Amdt. No. 2092]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—

Individual SIAP copies may be obtained from:

1. FAA Public Inquiry Center (APA-200), FAA Headquarters Building, 800 Independence Avenue, SW., Washington, DC 20591; or

2. The FAA Regional Office of the region in which the affected airport is located.

By Subscription—

Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This Amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and procedures (44 FR 11034; February 26, 1976); and (3) does not warrant preparation of regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC, on February 1, 2002.
James J. Ballough,
Director, Flight Standards Service.

Adoption of the Amendment

Accordingly, pursuant to the authority delegated to me, part 97 of the Federal Aviation Regulations (14 CFR part 97) is amended by establishing, amending, suspending, or revolving Standard Instrument Approach Procedures, effective at 0901 UTC on the dates specified, as follows:

PART 97—STANDARD INSTRUMENT APPROACH PROCEDURES

1. The authority citation for part 97 is revised to read as follows:

Authority: 49 U.S.C. 40103, 40113, 40120, 44701;49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * Effective Upon Publication

FDC date | State | City | Airport | FDC No. | Subject
01/02/02 | VA | Roanoke | Roanoke Regional Woodrum Field | 2/0035 | RNAV (GPS) Rwy 33, Orig
01/03/02 | AZ | Scottsdale | Scottsdale | 2/0079 | NDB OR GPS-B, Amdt 3
01/03/02 | MO | New Madrid | County Memorial | 2/0090 | VOR/DME OR GPS-A, Amdt 3
01/04/02 | CA | Upland | Cable | 2/0111 | VOR Rwy 6, Amdt 7
01/07/02 | CA | Upland | Cable | 2/0152 | GPS Rwy 6, Orig
01/08/02 | CA | San Francisco | San Francisco Intl | 2/0199 | RNAV (GPS) Rwy 10L, Orig
01/11/02 | IA | Ottumwa | Ottumwa Industrial | 2/0299 | VOR OR GPS Rwy 31, Amdt 14A
01/11/02 | KS | Kingman | Kingman Muni | 2/0313 | GPS Rwy 18, Orig-A
01/14/02 | FL | Tallahassee (Havana) | Tallahassee Commercial | 2/0377 | VOR OR GPS-A, Amdt 5A
01/15/02 | MI | Menominee | Menominee-Marinette Twin County | 2/0413 | VOR/DME RNAV OR GPS Rwy 21, Amdt 1A
01/15/02 | IL | Galesburg | Galesburg Muni | 2/0420 | VOR OR GPS Rwy 21, Amdt 6B
01/15/02 | TX | Houston | George Bush Intercontinental Arpt/Houston | 2/0429 | NDB Rwy 26, Amdt 2
01/15/02 | TX | Houston | George Bush Intercontinental Arpt/Houston | 2/0430 | VOR/DME Rwy 33R, Amdt 14
01/15/02 | TX | Houston | George Bush Intercontinental Arpt/Houston | 2/0431 | ILS Rwy 33R, Amdt 11
01/15/02 | TX | Houston | George Bush Intercontinental Arpt/Houston | 2/0432 | ILS Rwy 27, Amdt 4
01/15/02 | TX | Houston | George Bush Intercontinental Arpt/Houston | 2/0433 | ILS Rwy 26, Amdt 16
01/15/02 | TX | Houston | George Bush Intercontinental Arpt/Houston | 2/0434 | ILS Rwy 9, Amdt 5
01/15/02 | TX | Houston | George Bush Intercontinental Arpt/Houston | 2/0435 | ILS Rwy 8, Amdt 20
01/15/02 | TX | Houston | George Bush Intercontinental Arpt/Houston | 2/0436 | RNAV (GPS) Rwy 8, Orig
01/15/02 | TX | Houston | George Bush Intercontinental Arpt/Houston | 2/0437 | RNAV (GPS) 33R, Orig
01/15/02 | TX | Houston | George Bush Intercontinental Arpt/Houston | 2/0438 | RNAV (GPS) 26 Orig
01/15/02 | TX | Houston | George Bush Intercontinental Arpt/Houston | 2/0439 | RNAV (GPS) Rwy 9, Orig
01/15/02 | TX | Houston | George Bush Intercontinental Arpt/Houston | 2/0440 | RNAV (GPS) Rwy 27, Orig
01/15/02 | TX | Houston | George Bush Intercontinental Arpt/Houston | 2/0441 | RNAV (GPS) Z Rwy 9, Orig
01/16/02 | WV | Beckley | Raleigh County Memorial | 2/0454 | ILS Rwy 19, Amdt 4A
01/16/02 | OH | Willoughby | Willoughby Lost Nation Muni | 2/0456 | NDB OR GPS Rwy 9, Amdt 9B
01/16/02 | OH | Willoughby | Willoughby Lost Nation Muni | 2/0457 | VOR Rwy 27, Orig-A
01/16/02 | OH | Willoughby | Willoughby Lost Nation Muni | 2/0458 | NDB OR GPS Rwy 27, Amdt 12B
01/16/02 | NY | Farmingdale | Republic | 2/0462 | GPS Rwy 19, Orig
01/16/02 | MI | Bay City | James Clements Muni | 2/0463 | VOR OR GPS-A, Amdt 11A
01/16/02 | FL | Miami | Miami Intl | 2/0466 | RNAV (GPS) Rwy 27L, Orig
01/16/02 | FL | Miami | Miami Intl | 2/0467 | ILS Rwy 27L, Amdt 23A
01/16/02 | FL | Miami | Miami Intl | 2/0468 | ILS Rwy 12, Amdt 4A
01/16/02 | FL | Miami | Miami Intl | 2/0471 | RNAV (GPS) Rwy 30, Orig-G
01/16/02 | FL | Miami | Miami Intl | 2/0472 | RNAV (GPS) Rwy 9L, Orig
01/16/02 | FL | Miami | Miami Intl | 2/0473 | RNAV (GPS) Rwy 9R, Orig
01/16/02 | FL | Miami | Miami Intl | 2/0474 | RNAV (GPS) Rwy 12, Orig-A
01/17/02 | SD | Watertown | Watertown Muni | 2/0486 | ILS Rwy 35, Amdt 10
01/17/02 | LA | De Ridder | Beauregard Parish | 2/0492 | LOC Rwy 36, Amdt 1A
01/18/02 | NH | Berlin | Berlin Muni | 2/0528 | NDB Rwy 18, Orig-B
01/18/02 | NH | Berlin | Berlin Muni | 2/0529 | VOR/DME Rwy 18, Amdt 1B
01/18/02 | CT | New Haven | Tweed-New Haven | 2/0530 | ILS Rwy 2, Amdt 15B
01/18/02 | NY | White Plains | Westchester County | 2/0533 | ILS Rwy 34, Amdt 3A
01/18/02 | FL | Perry | Perry-Foley | 2/0534 | RNAV (GPS) Rwy 36, Orig
01/18/02 | FL | Titusville | Space Coast Regional | 2/0535 | GPS Rwy 9, Orig-B
01/18/02 | FL | Titusville | Space Coast Regional | 2/0536 | NDB OR GPS Rwy 18, Amdt 12
01/22/02 | NY | Montgomery | Orange County | 2/0568 | ILS Rwy 3, Amdt 1
01/22/02 | NY | Monticello | Sullivan County Intl | 2/0569 | ILS Rwy 15, Amdt 5A
01/22/02 | IA | Des Moines | Des Moines Intl | 2/0581 | ILS Rwy 31, Amdt 21B
01/23/02 | TX | El Paso | El Paso Intl | 2/0592 | Radar-1, Amdt 13A
01/24/02 | TX | Falfurrias | Brooks County | 2/0667 | NDB Rwy 35, Amdt 1
01/25/02 | SC | Orangeburg | Orangeburg Muni | 2/0683 | VOR Rwy 5, Amdt 4B
01/25/02 | TN | Memphis | Memphis Intl | 2/0688 | LOC Rwy 17, Orig
01/25/02 | TN | Memphis | Memphis Intl | 2/0689 | Radar-1, Amdt 39
01/25/02 | TN | Memphis | Memphis Intl | 2/0691 | NDB Rwy 9, Amdt 27
01/25/02 | TN | Memphis | Memphis Intl | 2/0696 | ILS Rwy 36C (CAT I,II,III), Amdt 2
01/25/02 | TN | Memphis | Memphis Intl | 2/0698 | ILS Rwy 27, Amdt 2B
01/25/02 | TN | Memphis | Memphis Intl | 2/0699 | ILS Rwy 18R, Amdt 12C
01/25/02 | TN | Memphis | Memphis Intl | 2/0700 | ILS Rwy 18L, Amdt 1B
01/25/02 | TN | Memphis | Memphis Intl | 2/0701 | ILS Rwy 18C, Orig-A
01/25/02 | TN | Memphis | Memphis Intl | 2/0703 | ILS Rwy 9, Amdt 26A
01/25/02 | TN | Memphis | Memphis Intl | 2/0708 | ILS Rwy 36L (CAT I,II,III), Amdt 13B
01/25/02 | TN | Memphis | Memphis Intl | 2/0725 | ILS Rwy 36R, (CAT I,II,III), Amdt 2
01/25/02 | TN | Memphis | Memphis Intl | 2/0729 | VOR/DME Rwy 18R, Orig
01/29/02 | IA | Pella | Pella Muni | 2/0797 | RNAV (GPS) Z Rwy 34, Orig
01/29/02 | IA | Pella | Pella Muni | 2/0799 | RNAV (GPS) Z Rwy 16, Orig
01/29/02 | IA | Pella | Pella Muni | 2/0800 | NDB OR GPS Rwy 34, Amdt 7
01/29/02 | PA | Meadville | Port Meadville | 2/0825 | LOC Rwy 25, Amdt 3B
01/29/02 | PA | Meadville | Port Meadville | 2/0826 | GPS Rwy 25, Orig-A
01/29/02 | PA | Meadville | Port Meadville | 2/0827 | VOR OR GPS Rwy 7, Amdt 6A

[FR Doc. 02-3243 Filed 2-8-02; 8:45 am]

BILLING CODE 4910-13-M